DEPARTMENT OF LABOR

Employment and Training Administration

[TA-W-52,744]

Rockwell Automation, Dublin, GA; Notice of Termination of Investigation

Pursuant to section 221 of the Trade Act of 1974, an investigation was initiated on September 3, 2003, in response to a worker petition which was filed by a company official on behalf of workers at Rockwell Automation, Dublin, Georgia (TA-W-52,744).

The petitioner has requested that the petition be withdrawn. Consequently, further investigation in this case would serve no purpose, and the investigation has been terminated.

Signed in Washington, DC, this 11th day of September, 2003.
Linda G. Poole,
Certifying Officer, Division of Trade Adjustment Assistance.

[FR Doc. 03-27439 Filed 10-30-03; 8:45 am]

BILLING CODE 4510-30-P